DEPARTMENT OF COMMERCE

International Trade Administration

[A-583-837]

Polyethylene Terephthalate Film, Sheet, and Strip From Taiwan: Notice of Correction to the Final Results of the 2010-2011 Antidumping Duty Administrative Review

AGENCY: Import Administration, International Trade Administration, Department of Commerce.

DATES: Effective Date: March 5, 2013.

FOR FURTHER INFORMATION CONTACT: Sean Carey or Milton Koch, AD/CVD Operations, Office 6, Import Administration, International Trade Administration, U.S. Department of Commerce, 14th Street and Constitution Avenue NW., Washington, DC 20230; telephone: (202) 428-3964 or (202) 482-2584, respectively.

SUPPLEMENTARY INFORMATION:

Correction

On February 11, 2013, the Department of Commerce (“Department”) published, in the Federal Register, the final results of the 2010-2011 administrative review of the antidumping duty order on polyethylene terephthalate film, sheet, and strip (PET Film) from Taiwan.¹ The period of review covered July 1, 2010, through June 30, 2011. The published Federal Register notice contained a clerical error, in that it identified an incorrect case number associated with PET Film from Taiwan (i.e., incorrect case number A-533-824).² The correct case number associated with PET Film from Taiwan is A-583-837. Pursuant to section 751(h) of the Tariff Act of 1930, as amended (“the Act”), the Department shall correct any ministerial errors within a reasonable time after the determinations are issued under this section. A ministerial error is defined as an error “in addition, subtraction, or other arithmetic function, clerical errors resulting from inaccurate copying, duplication, or the like, and any other type of unintentional error.” This notice serves to correct the incorrect case number listed in the Final Results.

¹ See Polyethylene Terephthalate Film, Sheet, and Strip From Taiwan: Final Results of Antidumping Duty Administrative Review; 2010-2011, 78 FR 9668 (February 11, 2013) (Final Results).

² Id. 78 FR at 9668.

This correction is published in accordance with sections 751(h) and 777(i) of the Act.

Dated: February 26, 2013.
Paul Piquado,
Assistant Secretary for Import Administration.

[FR Doc. 2013-05041 Filed 3-4-13; 8:45 am]

BILLING CODE 3510-DS-P